DEPARTMENT OF ENERGY

Federal Energy Regulatory Commission

[Docket No. RM07-9-000]

Notice of Inquiry on Adequacy of FERC Financial Forms; Notice Requesting Comments

April 8, 2008.

On February 29, 2008, the Association of Oil Pipe Lines (AOPL) filed Supplemental Post-Workshop Comments (Supplemental Comments) in the above referenced proceeding, in which it proposes certain revisions to FERC Form No. 6, Annual Report of Oil Pipeline Companies. The Commission is noticing AOPL's filing for comment.

In its Supplemental Comments, AOPL proposes that the Commission further define the rate base figure in Line 5 of Page 700 by listing: (1) Net carrier property in service; (2) net AFUDC; (3) working capital; (4) net deferred return; (5) net starting rate base write-up; and (6) ADIT. AOPL also proposes that the Commission raise the annual interstate operating revenue reporting level from $500,000 to $1,000,000 and exempt all pipelines below $1,000,000 from filing the full FERC Form No. 6 (including Page 700).

The Commission encourages electronic submission of comments in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: May 8, 2008.

Kimberly D. Bose,
Secretary.

[FR Doc. E8-7918 Filed 4-14-08; 8:45 am]

BILLING CODE 6717-01-P